LEGAL SERVICES CORPORATION

Sunshine Act Meeting of the Board of Directors, Operations and Regulations Committee

TIME AND DATE: The Operations and Regulations Committee of the Legal Services Corporation Board of Directors will meet on June 29, 2001. The meeting will begin at 2:00 p.m. and continue until the Committee concludes its agenda.

LOCATION: Sheraton Harborside Hotel, 250 Market Street, Portsmouth, NH.

STATUS OF MEETING: Open.

MATTERS TO BE CONSIDERED:

1. Approval of agenda.

2. Approval of the minutes of the Committee's meeting of November 10, 2000.

3. Consider and act on the Draft Final Property Acquisition and Management Manual.

4. Status report on the work of the Regulations Review Task Force.

5. Consider and act upon potential rulemaking on 45 CFR Part 1639 (Welfare Reform) to conform the regulations to the recent Supreme Court ruling in LSC v. Velazquez.

6. Staff report on the status of actions relating to 45 CFR Part 1626 (Restrictions on Legal Assistance to Aliens) and 45 CFR Part 1611 (Eligibility).

7. Consider and act on other business.

8. Public comment.

CONTACT PERSON FOR INFORMATION: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: June 21, 2001.
Victor M. Fortuno,
Vice President for Legal Affairs, General Counsel and Corporate Secretary.

[FR Doc. 01-16064 Filed 6-22-01; 9:30 am]

BILLING CODE 7050-01-P